SMALL BUSINESS ADMINISTRATION

Notice of Updated NAICS Codes for Use in the Women Owned Small Business Federal Contract Program

AGENCY: U.S. Small Business Administration.

ACTION: Notice.

SUMMARY: The U.S. Small Business Administration (SBA) is updating the North American Industry Classification System (NAICS) codes authorized for use in the Women-Owned Small Business Federal Contracting Program (WOSB Program). This update is being made to reflect the U.S. Office of Management and Budget's (OMB) NAICS revision for 2022, identified as NAICS 2022. These changes would impact 85 of the 2017 NAICS codes eligible for use under the WOSB Program.

DATES: The designations of industries contained in this notice apply to all solicitations issued on or after October 1, 2022.

FOR FURTHER INFORMATION CONTACT: Roman Ivey, Program Analyst, Office of Government Contracting and Business Development, roman.ivey@sba.gov, (202) 401-1420.

SUPPLEMENTARY INFORMATION:

I. Background

Under section 8(m) of the Small Business Act, 15 U.S.C. 637(m), SBA is responsible for implementing and administering the WOSB Program. The purpose of the WOSB Program is to ensure that women-owned small businesses (WOSBs) have an equal opportunity to participate in federal contracting and to help attain the Federal Government's goal of awarding five percent of its prime contract dollars to WOSBs. The WOSB Program authorizes Federal contracting officers to restrict competition for a contract to WOSBs if (1) There is a reasonable expectation that at least two WOSBs will submit offers that meet the requirements of the acquisition at a fair and reasonable price, and (2) The acquisition is for a good or service assigned a North American Industry Classification System (NAICS) code in which SBA has determined that WOSBs are “substantially underrepresented.” The WOSB Program also authorizes contracting officers to award a sole-source contract assigned a WOSB Program-eligible NAICS code, provided that only one WOSB can be identified that can perform the contract at a fair and reasonable price.

Economically disadvantaged women-owned small businesses (EDWOSBs) can likewise receive set-asides and sole-source contracts similar to those described above for WOSBs. Federal agencies may reserve contract opportunities for EDWOSB set-asides and sole-source awards in industries where SBA has determined that WOSBs are “underrepresented.”

The Small Business Reauthorization Act of 2000, Public Law 106-554, 1(a)(9) [title VIII section 811], required the SBA Administrator to conduct an initial study to identify those industries in which small business concerns owned and controlled by women are underrepresented in Federal contracting, in order to designate those industries as eligible for set-asides and sole-source contracts under the WOSB Program. 15 U.S.C. 637(m)(4). Subsequently, Congress amended the Small Business Act to require SBA to conduct a new study every five years and to submit a report to Congress reflecting the results of each new study. Public Law 113-291, section 825(c) (December 19, 2014). SBA recently conducted a new study and published the results—including the new list of 2017 NAICS codes eligible for use under the WOSB Program—in a Federal Register notice. 87 FR 15468 (March 18, 2022).

On December 21, 2021, the U.S. Office of Management and Budget (OMB) published its most recent update to the NAICS industry groups, NAICS 2022, “Notice of NAICS 2022 Final Decisions; Update of Statistical Policy Directive No. 8, North American Industry Classification System: Classification of Establishments; and Elimination of Statistical Policy Directive No. 9, Standard Industrial Classification of Enterprises.” (Notice of NAICS 2022) in the Federal Register. 86 FR 72277. The Notice of NAICS 2022 stated that Federal statistical establishment data published for years beginning on or after January 1, 2022, should be published using NAICS 2022. Accordingly, SBA published a final rule adopting of the new NAICS 2022 for its size standards. 87 FR 59240 (September 29, 2022).

In order to align the WOSB Program with the Notice of NAICS 2022 and SBA's adoption of NAICS 2022 for its size standards, SBA is issuing this notice to amend the NAICS codes eligible for use under the WOSB Program.

II. Changes in Eligible NAICS Codes

NAICS 2022 created 111 new industries by reclassifying, combining, or splitting 156 NAICS 2017 industries or their parts. In addition, NAICS 2022 renamed some NAICS industry titles. After review and comparison of the NAICS 2017 and NAICS 2022 industry groups, SBA has determined that the changes affect 85 of the 2017 NAICS codes designated as eligible for the WOSB Program in the March 18, 2022, Federal Register notice. The 2022 NAICS changes impact 72 NAICS codes designated as eligible for WOSB set-asides and sole-source awards and 13 NAICS codes designated as eligible for EDWOSB set-asides and sole-source awards.

Following is a breakdown of the number and type of impact the new 2022 NAICS codes have on industries eligible for the WOSB Program:

• 65 2017 NAICS codes are combined to form 28 new 2022 NAICS codes.

• One 2017 NAICS code are split into two 2022 NAICS codes.

• Nine 2017 NAICS codes are given a new 2022 NAICS code.

• Nine 2017 NAICS codes are given a new 2022 NAICS code title (the NAICS code itself will not change).

• One 2017 NAICS code is given a new 2022 NAICS code and a new 2022 NAICS code title.

As a result, the total number of NAICS codes eligible under the WOSB program decreases from 759 NAICS codes (2017) to 733 NAICS codes (2022).

Table 1, WOSB NAICS Code Changes from NAICS 2017 to NAICS 2022, summarizes the 6-digit WOSB- and EDWOSB-eligible NAICS codes that are being updated as a result of implementing NAICS 2022.

Table 1—WOSB NAICS Code Changes From NAICS 2017 to NAICS 2022
2017 NAICS code | 2017 Description | 2022 NAICS code | 2022 NAICS description | WOSB/EDWOSB eligibility
212324 | Kaolin and Ball Clay Mining | 212323 | Kaolin, Clay, and Ceramic and Refractory Minerals Mining | EDWOSB
212325 | Clay and Ceramic and Refractory Minerals Mining | 212323 | Kaolin, Clay, and Ceramic and Refractory Minerals Mining | EDWOSB
212391 | Potash, Soda, and Borate Mineral Mining | 212390 | Other Nonmetallic Mineral Mining and Quarrying | EDWOSB
212392 | Phosphate Rock Mining | 212390 | Other Nonmetallic Mineral Mining and Quarrying | EDWOSB
212393 | Other Chemical and Fertilizer Mineral Mining | 212390 | Other Nonmetallic Mineral Mining and Quarrying | EDWOSB
212399 | All Other Nonmetallic Mineral Mining | 212390 | Other Nonmetallic Mineral Mining and Quarrying | EDWOSB
311221 | Wet Corn Milling | 311221 | Wet Corn Milling and Starch Manufacturing | WOSB
315110 | Hosiery and Sock Mills | 315120 | Apparel Knitting Mills | WOSB
315190 | Other Apparel Knitting Mills | 315120 | Apparel Knitting Mills | WOSB
315220 | Men's and Boys' Cut and Sew Apparel Manufacturing | 315250 | Cut and Sew Apparel Manufacturing (except Contractors) | WOSB
315240 | Women's, Girls', and Infants' Cut and Sew Apparel Manufacturing | 315250 | Cut and Sew Apparel Manufacturing (except Contractors) | WOSB
315280 | Other Cut and Sew Apparel Manufacturing | 315250 | Cut and Sew Apparel Manufacturing (except Contractors) | WOSB
316992 | Women's Handbag and Purse Manufacturing | 316990 | Other Leather and Allied Product Manufacturing | WOSB
316998 | All Other Leather Good and Allied Product Manufacturing | 316990 | Other Leather and Allied Product Manufacturing | WOSB
321213 | Engineered Wood Member (except Truss) Manufacturing | 321215 | Engineered Wood Member Manufacturing | WOSB
321214 | Truss Manufacturing | 321215 | Engineered Wood Member Manufacturing | WOSB
322121 | Paper (except Newsprint) Mills | 322120 | Paper Mills | WOSB
322122 | Newsprint Mills | 322120 | Paper Mills | WOSB
325314 | Fertilizer (Mixing Only) Manufacturing | 325314 | Fertilizer (Mixing Only) Manufacturing | WOSB
325314 | Fertilizer (Mixing Only) Manufacturing | 325315 | Compost Manufacturing | WOSB
325992 | Photographic Film, Paper, Plate, and Chemical Manufacturing | 325992 | Photographic Film, Paper, Plate, Chemical, and Copy Toner Manufacturing | WOSB
333244 | Printing Machinery and Equipment Manufacturing | 333248 | All Other Industrial Machinery Manufacturing | EDWOSB
333249 | Other Industrial Machinery Manufacturing | 333248 | All Other Industrial Machinery Manufacturing | EDWOSB
333314 | Optical Instrument and Lens Manufacturing | 333310 | Commercial and Service Industry Machinery Manufacturing | WOSB
333316 | Photographic and Photocopying Equipment Manufacturing | 333310 | Commercial and Service Industry Machinery Manufacturing | WOSB
333318 | Other Commercial and Service Industry Machinery Manufacturing | 333310 | Commercial and Service Industry Machinery Manufacturing | WOSB
333997 | Scale and Balance Manufacturing | 333998 | All Other Miscellaneous General Purpose Machinery Manufacturing | WOSB
333999 | All Other Miscellaneous General Purpose Machinery Manufacturing | 333998 | All Other Miscellaneous General Purpose Machinery Manufacturing | WOSB
334613 | Blank Magnetic and Optical Recording Media Manufacturing | 334610 | Manufacturing and Reproducing Magnetic and Optical Media | WOSB
334614 | Software and Other Prerecorded Compact Disc, Tape, and Record Reproducing | 334610 | Manufacturing and Reproducing Magnetic and Optical Media | WOSB
335110 | Electric Lamp Bulb and Part Manufacturing | 335139 | Electric Lamp Bulb and Other Lighting Equipment Manufacturing | EDWOSB
335121 | Residential Electric Lighting Fixture Manufacturing | 335131 | Residential Electric Lighting Fixture Manufacturing | EDWOSB
335122 | Commercial, Industrial, and Institutional Electric Lighting Fixture Manufacturing | 335132 | Commercial, Industrial, and Institutional Electric Lighting Fixture Manufacturing | EDWOSB
335129 | Other Lighting Equipment Manufacturing | 335139 | Electric Lamp Bulb and Other Lighting Equipment Manufacturing | EDWOSB
335911 | Storage Battery Manufacturing | 335910 | Battery Manufacturing | WOSB
335912 | Primary Battery Manufacturing | 335910 | Battery Manufacturing | WOSB
336111 | Automobile Manufacturing | 336110 | Automobile and Light Duty Motor Vehicle Manufacturing | WOSB
336112 | Light Truck and Utility Vehicle Manufacturing | 336110 | Automobile and Light Duty Motor Vehicle Manufacturing | WOSB
337124 | Metal Household Furniture Manufacturing | 337126 | Household Furniture (except Wood and Upholstered) Manufacturing | WOSB
337125 | Household Furniture (except Wood and Metal) Manufacturing | 337126 | Household Furniture (except Wood and Upholstered) Manufacturing | WOSB
485310 | Taxi Service | 485310 | Taxi and Ridesharing Services | WOSB
511110 | Newspaper Publishers | 513110 | Newspaper Publishers | WOSB
511120 | Periodical Publishers | 513120 | Periodical Publishers | WOSB
511130 | Book Publishers | 513130 | Book Publishers | WOSB
511140 | Directory and Mailing List Publishers | 513140 | Directory and Mailing List Publishers | WOSB
511191 | Greeting Card Publishers | 513191 | Greeting Card Publishers | WOSB
511199 | All Other Publishers | 513199 | All Other Publishers | WOSB
511210 | Software Publishers | 513210 | Software Publishers | WOSB
515111 | Radio Networks | 516210 | Media Streaming Distribution Services, Social Networks, and Other Media Networks and Content Providers | WOSB
515112 | Radio Stations | 516110 | Radio Broadcasting Stations | WOSB
515120 | Television Broadcasting | 516120 | Television Broadcasting Stations | WOSB
515120 | Television Broadcasting | 516210 | Media Streaming Distribution Services, Social Networks, and Other Media Networks and Content Providers | WOSB
515210 | Cable and Other Subscription Programming | 516210 | Media Streaming Distribution Services, Social Networks, and Other Media Networks and Content Providers | WOSB
517311 | Wired Telecommunications Carriers | 517111 | Wired Telecommunications Carriers | WOSB
517312 | Wireless Telecommunications Carriers (except Satellite) | 517112 | Wireless Telecommunications Carriers (except Satellite) | WOSB
517312 | Wireless Telecommunications Carriers (except Satellite) | 517122 | Agents for Wireless Telecommunications Services | WOSB
517911 | Telecommunications Resellers | 517121 | Telecommunications Resellers | WOSB
517911 | Telecommunications Resellers | 517122 | Agents for Wireless Telecommunications Services | WOSB
517919 | All Other Telecommunications | 517810 | All Other Telecommunications | WOSB
518210 | Data Processing, Hosting, and Related Services | 518210 | Computing Infrastructure Providers, Data Processing, Web Hosting, and Related Services | WOSB
519110 | News Syndicates | 516210 | Media Streaming Distribution Services, Social Networks, and Other Media Networks and Content Providers | WOSB
519120 | Libraries and Archives | 519210 | Libraries and Archives | WOSB
519130 | Internet Publishing and Broadcasting and Web Search Portals | 513110 | Newspaper Publishers | WOSB
519130 | Internet Publishing and Broadcasting and Web Search Portals | 513120 | Periodical Publishers | WOSB
519130 | Internet Publishing and Broadcasting and Web Search Portals | 513130 | Book Publishers | WOSB
519130 | Internet Publishing and Broadcasting and Web Search Portals | 513140 | Directory and Mailing List Publishers | WOSB
519130 | Internet Publishing and Broadcasting and Web Search Portals | 513191 | Greeting Card Publishers | WOSB
519130 | Internet Publishing and Broadcasting and Web Search Portals | 513199 | All Other Publishers | WOSB
519130 | Internet Publishing and Broadcasting and Web Search Portals | 516210 | Media Streaming Distribution Services, Social Networks, and Other Media Networks and Content Providers | WOSB
519130 | Internet Publishing and Broadcasting and Web Search Portals | 519290 | Web Search Portals and All Other Information Services | WOSB
519190 | All Other Information Services | 519290 | Web Search Portals and All Other Information Services | WOSB
523110 | Investment Banking and Securities Dealing | 523150 | Investment Banking and Securities Intermediation | WOSB
523120 | Securities Brokerage | 523150 | Investment Banking and Securities Intermediation | WOSB
523130 | Commodity Contracts Dealing | 523160 | Commodity Contracts Intermediation | WOSB
523140 | Commodity Contracts Brokerage | 523160 | Commodity Contracts Intermediation | WOSB
523920 | Portfolio Management | 523940 | Portfolio Management and Investment Advice | WOSB
523930 | Investment Advice | 523940 | Portfolio Management and Investment Advice | WOSB
524292 | Third Party Administration of Insurance and Pension Funds | 524292 | Pharmacy Benefit Management and Other Third Party Administration of Insurance and Pension Funds | WOSB
541380 | Testing Laboratories | 541380 | Testing Laboratories and Services | WOSB
541850 | Outdoor Advertising | 541850 | Indoor and Outdoor Display Advertising | WOSB
561611 | Investigation Services | 561611 | Investigation and Personal Background Check Services | WOSB
624410 | Child Day Care Services | 624410 | Child Care Services | EDWOSB
811211 | Consumer Electronics Repair and Maintenance | 811210 | Electronic and Precision Equipment Repair and Maintenance | WOSB
811212 | Computer and Office Machine Repair and Maintenance | 811210 | Electronic and Precision Equipment Repair and Maintenance | WOSB
811213 | Communication Equipment Repair and Maintenance | 811210 | Electronic and Precision Equipment Repair and Maintenance | WOSB
811219 | Other Electronic and Precision Equipment Repair and Maintenance | 811210 | Electronic and Precision Equipment Repair and Maintenance | WOSB

Table 2, 2022 NAICS Codes in Which WOSBs are Underrepresented (EDWOSB set-aside/sole-source qualified), lists the 2022 NAICS codes available for EDWOSB set-aside and sole-source procurement under the WOSB Program.

Table 2—2022 NAICS Codes in Which WOSBs Are Underrepresented
[EDWOSB set-aside/sole-source qualified]
NAICS code | NAICS U.S. industry title
111411 | Mushroom Production.
111419 | Other Food Crops Grown Under Cover.
111421 | Nursery and Tree Production.
111422 | Floriculture Production.
112310 | Chicken Egg Production.
112320 | Broilers and Other Meat Type Chicken Production.
112330 | Turkey Production.
112340 | Poultry Hatcheries.
112390 | Other Poultry Production.
115310 | Support Activities for Forestry.
212311 | Dimension Stone Mining and Quarrying.
212312 | Crushed and Broken Limestone Mining and Quarrying.
212313 | Crushed and Broken Granite Mining and Quarrying.
212319 | Other Crushed and Broken Stone Mining and Quarrying.
212321 | Construction Sand and Gravel Mining.
212322 | Industrial Sand Mining.
212323 | Kaolin, Clay, and Ceramic and Refractory Minerals Mining.
212390 | Other Nonmetallic Mineral Mining and Quarrying.
238310 | Drywall and Insulation Contractors.
238320 | Painting and Wall Covering Contractors.
238330 | Flooring Contractors.
238340 | Tile and Terrazzo Contractors.
238350 | Finish Carpentry Contractors.
238390 | Other Building Finishing Contractors.
238910 | Site Preparation Contractors.
238990 | All Other Specialty Trade Contractors.
311111 | Dog and Cat Food Manufacturing.
311119 | Other Animal Food Manufacturing.
311611 | Animal (except Poultry) Slaughtering.
311612 | Meat Processed from Carcasses.
311613 | Rendering and Meat Byproduct Processing.
311615 | Poultry Processing.
314110 | Carpet and Rug Mills.
314120 | Curtain and Linen Mills.
321113 | Sawmills.
321114 | Wood Preservation.
327410 | Lime Manufacturing.
327420 | Gypsum Product Manufacturing.
331210 | Iron and Steel Pipe and Tube Manufacturing from Purchased Steel.
331221 | Rolled Steel Shape Manufacturing.
331222 | Steel Wire Drawing.
332613 | Spring Manufacturing.
332618 | Other Fabricated Wire Product Manufacturing.
332710 | Machine Shops.
332721 | Precision Turned Product Manufacturing.
332722 | Bolt, Nut, Screw, Rivet, and Washer Manufacturing.
332811 | Metal Heat Treating.
332812 | Metal Coating, Engraving (except Jewelry and Silverware), and Allied Services to Manufacturers.
332813 | Electroplating, Plating, Polishing, Anodizing, and Coloring.
333241 | Food Product Machinery Manufacturing.
333242 | Semiconductor Machinery Manufacturing.
333243 | Sawmill, Woodworking, and Paper Machinery Manufacturing.
333248 | All Other Industrial Machinery Manufacturing.
334310 | Audio and Video Equipment Manufacturing.
335131 | Residential Electric Lighting Fixture Manufacturing.
335132 | Commercial, Industrial, and Institutional Electric Lighting Fixture Manufacturing.
335139 | Electric Lamp Bulb and Other Lighting Equipment Manufacturing.
335311 | Power, Distribution, and Specialty Transformer Manufacturing.
335312 | Motor and Generator Manufacturing.
335313 | Switchgear and Switchboard Apparatus Manufacturing.
335314 | Relay and Industrial Control Manufacturing.
337910 | Mattress Manufacturing.
337920 | Blind and Shade Manufacturing.
485510 | Charter Bus Industry.
488210 | Support Activities for Rail Transportation.
512110 | Motion Picture and Video Production.
512120 | Motion Picture and Video Distribution.
512131 | Motion Picture Theaters (except Drive-Ins).
512132 | Drive-In Motion Picture Theaters.
512191 | Teleproduction and Other Postproduction Services.
512199 | Other Motion Picture and Video Industries.
561710 | Exterminating and Pest Control Services.
561720 | Janitorial Services.
561730 | Landscaping Services.
561740 | Carpet and Upholstery Cleaning Services.
561790 | Other Services to Buildings and Dwellings.
562111 | Solid Waste Collection.
562112 | Hazardous Waste Collection.
562119 | Other Waste Collection.
621310 | Offices of Chiropractors.
621320 | Offices of Optometrists.
621330 | Offices of Mental Health Practitioners (except Physicians).
621340 | Offices of Physical, Occupational and Speech Therapists, and Audiologists.
621391 | Offices of Podiatrists.
621399 | Offices of All Other Miscellaneous Health Practitioners.
624410 | Child Care Services.
712110 | Museums.
712120 | Historical Sites.
712130 | Zoos and Botanical Gardens.
712190 | Nature Parks and Other Similar Institutions.
721110 | Hotels (except Casino Hotels) and Motels.
721120 | Casino Hotels.
721191 | Bed-and-Breakfast Inns.
721199 | All Other Traveler Accommodation.
721211 | RV (Recreational Vehicle) Parks and Campgrounds.
721214 | Recreational and Vacation Camps (except Campgrounds).
811411 | Home and Garden Equipment Repair and Maintenance.
811412 | Appliance Repair and Maintenance.
811420 | Reupholstery and Furniture Repair.
811430 | Footwear and Leather Goods Repair.
811490 | Other Personal and Household Goods Repair and Maintenance.
812111 | Barber Shops.
812112 | Beauty Salons.
812113 | Nail Salons.
812191 | Diet and Weight Reducing Centers.
812199 | Other Personal Care Services.
813110 | Religious Organizations.

Table 3, 2022 NAICS Codes in Which WOSBs are Substantially Underrepresented (WOSB set-aside/sole-source qualified), lists the 2022 NAICS codes available for WOSB set-aside and sole-source procurement under the WOSB Program.

Table 3—2022 NAICS Codes in Which WOSBs Are Substantially Underrepresented
[WOSB set-aside/sole-source qualified]
NAICS code | NAICS U.S. industry title
111110 | Soybean Farming.
111120 | Oilseed (except Soybean) Farming.
111130 | Dry Pea and Bean Farming.
111140 | Wheat Farming.
111150 | Corn Farming.
111160 | Rice Farming.
111191 | Oilseed and Grain Combination Farming.
111199 | All Other Grain Farming.
111910 | Tobacco Farming.
111920 | Cotton Farming.
111930 | Sugarcane Farming.
111940 | Hay Farming.
111991 | Sugar Beet Farming.
111992 | Peanut Farming.
111998 | All Other Miscellaneous Crop Farming.
112210 | Hog and Pig Farming.
112910 | Apiculture.
112920 | Horses and Other Equine Production.
112930 | Fur-Bearing Animal and Rabbit Production.
112990 | All Other Animal Production.
113210 | Forest Nurseries and Gathering of Forest Products.
114210 | Hunting and Trapping.
115111 | Cotton Ginning.
115112 | Soil Preparation, Planting, and Cultivating.
115113 | Crop Harvesting, Primarily by Machine.
115114 | Postharvest Crop Activities (except Cotton Ginning).
115115 | Farm Labor Contractors and Crew Leaders.
115116 | Farm Management Services.
115210 | Support Activities for Animal Production.
211120 | Crude Petroleum Extraction.
211130 | Natural Gas Extraction.
213111 | Drilling Oil and Gas Wells.
213112 | Support Activities for Oil and Gas Operations.
213113 | Support Activities for Coal Mining.
213114 | Support Activities for Metal Mining.
213115 | Support Activities for Nonmetallic Minerals (except Fuels) Mining.
221111 | Hydroelectric Power Generation.
221112 | Fossil Fuel Electric Power Generation.
221113 | Nuclear Electric Power Generation.
221114 | Solar Electric Power Generation.
221115 | Wind Electric Power Generation.
221116 | Geothermal Electric Power Generation.
221117 | Biomass Electric Power Generation.
221118 | Other Electric Power Generation.
221121 | Electric Bulk Power Transmission and Control.
221122 | Electric Power Distribution.
221210 | Natural Gas Distribution.
221310 | Water Supply and Irrigation Systems.
221320 | Sewage Treatment Facilities.
221330 | Steam and Air-Conditioning Supply.
236115 | New Single-Family Housing Construction (except For-Sale Builders).
236116 | New Multifamily Housing Construction (except For-Sale Builders).
236117 | New Housing For-Sale Builders.
236118 | Residential Remodelers.
236210 | Industrial Building Construction.
236220 | Commercial and Institutional Building Construction.
237110 | Water and Sewer Line and Related Structures Construction.
237120 | Oil and Gas Pipeline and Related Structures Construction.
237130 | Power and Communication Line and Related Structures Construction.
237310 | Highway, Street, and Bridge Construction.
237990 | Other Heavy and Civil Engineering Construction.
311211 | Flour Milling.
311212 | Rice Milling.
311213 | Malt Manufacturing.
311221 | Wet Corn Milling and Starch Manufacturing.
311224 | Soybean and Other Oilseed Processing.
311225 | Fats and Oils Refining and Blending.
311230 | Breakfast Cereal Manufacturing.
311313 | Beet Sugar Manufacturing.
311314 | Cane Sugar Manufacturing.
311340 | Nonchocolate Confectionery Manufacturing.
311351 | Chocolate and Confectionery Manufacturing from Cacao Beans.
311352 | Confectionery Manufacturing from Purchased Chocolate.
311411 | Frozen Fruit, Juice, and Vegetable Manufacturing.
311412 | Frozen Specialty Food Manufacturing.
311421 | Fruit and Vegetable Canning.
311422 | Specialty Canning.
311423 | Dried and Dehydrated Food Manufacturing.
311511 | Fluid Milk Manufacturing.
311512 | Creamery Butter Manufacturing.
311513 | Cheese Manufacturing.
311514 | Dry, Condensed, and Evaporated Dairy Product Manufacturing.
311520 | Ice Cream and Frozen Dessert Manufacturing.
311710 | Seafood Product Preparation and Packaging.
311811 | Retail Bakeries.
311812 | Commercial Bakeries.
311813 | Frozen Cakes, Pies, and Other Pastries Manufacturing.
311821 | Cookie and Cracker Manufacturing.
311824 | Dry Pasta, Dough, and Flour Mixes Manufacturing from Purchased Flour.
311830 | Tortilla Manufacturing.
311911 | Roasted Nuts and Peanut Butter Manufacturing.
311919 | Other Snack Food Manufacturing.
311920 | Coffee and Tea Manufacturing.
311930 | Flavoring Syrup and Concentrate Manufacturing.
311941 | Mayonnaise, Dressing, and Other Prepared Sauce Manufacturing.
311942 | Spice and Extract Manufacturing.
311991 | Perishable Prepared Food Manufacturing.
311999 | All Other Miscellaneous Food Manufacturing.
312111 | Soft Drink Manufacturing.
312112 | Bottled Water Manufacturing.
312113 | Ice Manufacturing.
312120 | Breweries.
312130 | Wineries.
312140 | Distilleries.
313110 | Fiber, Yarn, and Thread Mills.
313210 | Broadwoven Fabric Mills.
313220 | Narrow Fabric Mills and Schiffli Machine Embroidery.
313230 | Nonwoven Fabric Mills.
313240 | Knit Fabric Mills.
313310 | Textile and Fabric Finishing Mills.
313320 | Fabric Coating Mills.
314910 | Textile Bag and Canvas Mills.
314994 | Rope, Cordage, Twine, Tire Cord, and Tire Fabric Mills.
314999 | All Other Miscellaneous Textile Product Mills.
315120 | Apparel Knitting Mills.
315210 | Cut and Sew Apparel Contractors.
315250 | Cut and Sew Apparel Manufacturing (except Contractors).
315990 | Apparel Accessories and Other Apparel Manufacturing.
316110 | Leather and Hide Tanning and Finishing.
316210 | Footwear Manufacturing.
316990 | Other Leather and Allied Product Manufacturing.
321211 | Hardwood Veneer and Plywood Manufacturing.
321212 | Softwood Veneer and Plywood Manufacturing.
321215 | Engineered Wood Member Manufacturing.
321219 | Reconstituted Wood Product Manufacturing.
321911 | Wood Window and Door Manufacturing.
321912 | Cut Stock, Resawing Lumber, and Planing.
321918 | Other Millwork (including Flooring).
321920 | Wood Container and Pallet Manufacturing.
321991 | Manufactured Home (Mobile Home) Manufacturing.
321992 | Prefabricated Wood Building Manufacturing.
321999 | All Other Miscellaneous Wood Product Manufacturing.
322110 | Pulp Mills.
322120 | Paper Mills.
322130 | Paperboard Mills.
322211 | Corrugated and Solid Fiber Box Manufacturing.
322212 | Folding Paperboard Box Manufacturing.
322219 | Other Paperboard Container Manufacturing.
322220 | Paper Bag and Coated and Treated Paper Manufacturing.
322230 | Stationery Product Manufacturing.
322291 | Sanitary Paper Product Manufacturing.
322299 | All Other Converted Paper Product Manufacturing.
323111 | Commercial Printing (except Screen and Books).
323113 | Commercial Screen Printing.
323117 | Books Printing.
323120 | Support Activities for Printing.
324110 | Petroleum Refineries.
324121 | Asphalt Paving Mixture and Block Manufacturing.
324122 | Asphalt Shingle and Coating Materials Manufacturing.
324191 | Petroleum Lubricating Oil and Grease Manufacturing.
324199 | All Other Petroleum and Coal Products Manufacturing.
325110 | Petrochemical Manufacturing.
325120 | Industrial Gas Manufacturing.
325130 | Synthetic Dye and Pigment Manufacturing.
325180 | Other Basic Inorganic Chemical Manufacturing.
325193 | Ethyl Alcohol Manufacturing.
325194 | Cyclic Crude, Intermediate, and Gum and Wood Chemical Manufacturing.
325199 | All Other Basic Organic Chemical Manufacturing.
325211 | Plastics Material and Resin Manufacturing.
325212 | Synthetic Rubber Manufacturing.
325220 | Artificial and Synthetic Fibers and Filaments Manufacturing.
325311 | Nitrogenous Fertilizer Manufacturing.
325312 | Phosphatic Fertilizer Manufacturing.
325314 | Fertilizer (Mixing Only) Manufacturing.
325315 | Compost Manufacturing.
325320 | Pesticide and Other Agricultural Chemical Manufacturing.
325411 | Medicinal and Botanical Manufacturing.
325412 | Pharmaceutical Preparation Manufacturing.
325413 | In-Vitro Diagnostic Substance Manufacturing.
325414 | Biological Product (except Diagnostic) Manufacturing.
325510 | Paint and Coating Manufacturing.
325520 | Adhesive Manufacturing.
325611 | Soap and Other Detergent Manufacturing.
325612 | Polish and Other Sanitation Good Manufacturing.
325613 | Surface Active Agent Manufacturing.
325620 | Toilet Preparation Manufacturing.
325910 | Printing Ink Manufacturing.
325920 | Explosives Manufacturing.
325991 | Custom Compounding of Purchased Resins.
325992 | Photographic Film, Paper, Plate, Chemical, and Copy Toner Manufacturing.
325998 | All Other Miscellaneous Chemical Product and Preparation Manufacturing.
326211 | Tire Manufacturing (except Retreading).
326212 | Tire Retreading.
326220 | Rubber and Plastics Hoses and Belting Manufacturing.
326291 | Rubber Product Manufacturing for Mechanical Use.
326299 | All Other Rubber Product Manufacturing.
327110 | Pottery, Ceramics, and Plumbing Fixture Manufacturing.
327120 | Clay Building Material and Refractories Manufacturing.
327211 | Flat Glass Manufacturing.
327212 | Other Pressed and Blown Glass and Glassware Manufacturing.
327213 | Glass Container Manufacturing.
327215 | Glass Product Manufacturing Made of Purchased Glass.
327310 | Cement Manufacturing.
327320 | Ready-Mix Concrete Manufacturing.
327331 | Concrete Block and Brick Manufacturing.
327332 | Concrete Pipe Manufacturing.
327390 | Other Concrete Product Manufacturing.
327910 | Abrasive Product Manufacturing.
327991 | Cut Stone and Stone Product Manufacturing.
327992 | Ground or Treated Mineral and Earth Manufacturing.
327993 | Mineral Wool Manufacturing.
327999 | All Other Miscellaneous Nonmetallic Mineral Product Manufacturing.
331110 | Iron and Steel Mills and Ferroalloy Manufacturing.
331313 | Alumina Refining and Primary Aluminum Production.
331314 | Secondary Smelting and Alloying of Aluminum.
331315 | Aluminum Sheet, Plate, and Foil Manufacturing.
331318 | Other Aluminum Rolling, Drawing, and Extruding.
331410 | Nonferrous Metal (except Aluminum) Smelting and Refining.
331420 | Copper Rolling, Drawing, Extruding, and Alloying.
331491 | Nonferrous Metal (except Copper and Aluminum) Rolling, Drawing, and Extruding.
331492 | Secondary Smelting, Refining, and Alloying of Nonferrous Metal (except Copper and Aluminum).
331511 | Iron Foundries.
331512 | Steel Investment Foundries.
331513 | Steel Foundries (except Investment).
331523 | Nonferrous Metal Die-Casting Foundries.
331524 | Aluminum Foundries (except Die-Casting).
331529 | Other Nonferrous Metal Foundries (except Die-Casting).
332111 | Iron and Steel Forging.
332112 | Nonferrous Forging.
332114 | Custom Roll Forming.
332117 | Powder Metallurgy Part Manufacturing.
332119 | Metal Crown, Closure, and Other Metal Stamping (except Automotive).
332215 | Metal Kitchen Cookware, Utensil, Cutlery, and Flatware (except Precious) Manufacturing.
332216 | Saw Blade and Handtool Manufacturing.
332311 | Prefabricated Metal Building and Component Manufacturing.
332312 | Fabricated Structural Metal Manufacturing.
332313 | Plate Work Manufacturing.
332321 | Metal Window and Door Manufacturing.
332322 | Sheet Metal Work Manufacturing.
332323 | Ornamental and Architectural Metal Work Manufacturing.
332410 | Power Boiler and Heat Exchanger Manufacturing.
332420 | Metal Tank (Heavy Gauge) Manufacturing.
332431 | Metal Can Manufacturing.
332439 | Other Metal Container Manufacturing.
332510 | Hardware Manufacturing.
332911 | Industrial Valve Manufacturing.
332912 | Fluid Power Valve and Hose Fitting Manufacturing.
332913 | Plumbing Fixture Fitting and Trim Manufacturing.
332919 | Other Metal Valve and Pipe Fitting Manufacturing.
332991 | Ball and Roller Bearing Manufacturing.
332992 | Small Arms Ammunition Manufacturing.
332993 | Ammunition (except Small Arms) Manufacturing.
332994 | Small Arms, Ordnance, and Ordnance Accessories Manufacturing.
332996 | Fabricated Pipe and Pipe Fitting Manufacturing.
332999 | All Other Miscellaneous Fabricated Metal Product Manufacturing.
333111 | Farm Machinery and Equipment Manufacturing.
333112 | Lawn and Garden Tractor and Home Lawn and Garden Equipment Manufacturing.
333120 | Construction Machinery Manufacturing.
333131 | Mining Machinery and Equipment Manufacturing.
333132 | Oil and Gas Field Machinery and Equipment Manufacturing.
333310 | Commercial and Service Industry Machinery Manufacturing.
333413 | Industrial and Commercial Fan and Blower and Air Purification Equipment Manufacturing.
333414 | Heating Equipment (except Warm Air Furnaces) Manufacturing.
333415 | Air-Conditioning and Warm Air Heating Equipment and Commercial and Industrial Refrigeration Equipment Manufacturing.
333511 | Industrial Mold Manufacturing.
333514 | Special Die and Tool, Die Set, Jig, and Fixture Manufacturing.
333515 | Cutting Tool and Machine Tool Accessory Manufacturing.
333517 | Machine Tool Manufacturing.
333519 | Rolling Mill and Other Metalworking Machinery Manufacturing.
333611 | Turbine and Turbine Generator Set Units Manufacturing.
333612 | Speed Changer, Industrial High-Speed Drive, and Gear Manufacturing.
333613 | Mechanical Power Transmission Equipment Manufacturing.
333618 | Other Engine Equipment Manufacturing.
333912 | Air and Gas Compressor Manufacturing.
333914 | Measuring, Dispensing, and Other Pumping Equipment Manufacturing.
333921 | Elevator and Moving Stairway Manufacturing.
333922 | Conveyor and Conveying Equipment Manufacturing.
333923 | Overhead Traveling Crane, Hoist, and Monorail System Manufacturing.
333924 | Industrial Truck, Tractor, Trailer, and Stacker Machinery Manufacturing.
333991 | Power-Driven Handtool Manufacturing.
333992 | Welding and Soldering Equipment Manufacturing.
333993 | Packaging Machinery Manufacturing.
333994 | Industrial Process Furnace and Oven Manufacturing.
333995 | Fluid Power Cylinder and Actuator Manufacturing.
333996 | Fluid Power Pump and Motor Manufacturing.
333998 | All Other Miscellaneous General Purpose Machinery Manufacturing.
334111 | Electronic Computer Manufacturing.
334112 | Computer Storage Device Manufacturing.
334118 | Computer Terminal and Other Computer Peripheral Equipment Manufacturing.
334210 | Telephone Apparatus Manufacturing.
334220 | Radio and Television Broadcasting and Wireless Communications Equipment Manufacturing.
334290 | Other Communications Equipment Manufacturing.
334412 | Bare Printed Circuit Board Manufacturing.
334413 | Semiconductor and Related Device Manufacturing.
334416 | Capacitor, Resistor, Coil, Transformer, and Other Inductor Manufacturing.
334417 | Electronic Connector Manufacturing.
334418 | Printed Circuit Assembly (Electronic Assembly) Manufacturing.
334419 | Other Electronic Component Manufacturing.
334510 | Electromedical and Electrotherapeutic Apparatus Manufacturing.
334511 | Search, Detection, Navigation, Guidance, Aeronautical, and Nautical System and Instrument Manufacturing.
334512 | Automatic Environmental Control Manufacturing for Residential, Commercial, and Appliance Use.
334513 | Instruments and Related Products Manufacturing for Measuring, Displaying, and Controlling Industrial Process Variables.
334514 | Totalizing Fluid Meter and Counting Device Manufacturing.
334515 | Instrument Manufacturing for Measuring and Testing Electricity and Electrical Signals.
334516 | Analytical Laboratory Instrument Manufacturing.
334517 | Irradiation Apparatus Manufacturing.
334519 | Other Measuring and Controlling Device Manufacturing.
334610 | Manufacturing and Reproducing Magnetic and Optical Media.
335910 | Battery Manufacturing.
335921 | Fiber Optic Cable Manufacturing.
335929 | Other Communication and Energy Wire Manufacturing.
335931 | Current-Carrying Wiring Device Manufacturing.
335932 | Noncurrent-Carrying Wiring Device Manufacturing.
335991 | Carbon and Graphite Product Manufacturing.
335999 | All Other Miscellaneous Electrical Equipment and Component Manufacturing.
336110 | Automobile and Light Duty Motor Vehicle Manufacturing.
336120 | Heavy Duty Truck Manufacturing.
336211 | Motor Vehicle Body Manufacturing.
336212 | Truck Trailer Manufacturing.
336213 | Motor Home Manufacturing.
336214 | Travel Trailer and Camper Manufacturing.
336310 | Motor Vehicle Gasoline Engine and Engine Parts Manufacturing.
336320 | Motor Vehicle Electrical and Electronic Equipment Manufacturing.
336330 | Motor Vehicle Steering and Suspension Components (except Spring) Manufacturing.
336340 | Motor Vehicle Brake System Manufacturing.
336350 | Motor Vehicle Transmission and Power Train Parts Manufacturing.
336360 | Motor Vehicle Seating and Interior Trim Manufacturing.
336370 | Motor Vehicle Metal Stamping.
336390 | Other Motor Vehicle Parts Manufacturing.
336411 | Aircraft Manufacturing.
336412 | Aircraft Engine and Engine Parts Manufacturing.
336413 | Other Aircraft Parts and Auxiliary Equipment Manufacturing.
336414 | Guided Missile and Space Vehicle Manufacturing.
336415 | Guided Missile and Space Vehicle Propulsion Unit and Propulsion Unit Parts Manufacturing.
336419 | Other Guided Missile and Space Vehicle Parts and Auxiliary Equipment Manufacturing.
336611 | Ship Building and Repairing.
336612 | Boat Building.
336991 | Motorcycle, Bicycle, and Parts Manufacturing.
336992 | Military Armored Vehicle, Tank, and Tank Component Manufacturing.
336999 | All Other Transportation Equipment Manufacturing.
337110 | Wood Kitchen Cabinet and Countertop Manufacturing.
337121 | Upholstered Household Furniture Manufacturing.
337122 | Nonupholstered Wood Household Furniture Manufacturing.
337126 | Household Furniture (except Wood and Upholstered) Manufacturing.
337127 | Institutional Furniture Manufacturing.
337211 | Wood Office Furniture Manufacturing.
337212 | Custom Architectural Woodwork and Millwork Manufacturing.
337214 | Office Furniture (except Wood) Manufacturing.
337215 | Showcase, Partition, Shelving, and Locker Manufacturing.
339112 | Surgical and Medical Instrument Manufacturing.
339113 | Surgical Appliance and Supplies Manufacturing.
339114 | Dental Equipment and Supplies Manufacturing.
339115 | Ophthalmic Goods Manufacturing.
339116 | Dental Laboratories.
339910 | Jewelry and Silverware Manufacturing.
339920 | Sporting and Athletic Goods Manufacturing.
339930 | Doll, Toy, and Game Manufacturing.
339940 | Office Supplies (except Paper) Manufacturing.
339950 | Sign Manufacturing.
339991 | Gasket, Packing, and Sealing Device Manufacturing.
339992 | Musical Instrument Manufacturing.
339993 | Fastener, Button, Needle, and Pin Manufacturing.
339994 | Broom, Brush, and Mop Manufacturing.
339995 | Burial Casket Manufacturing.
339999 | All Other Miscellaneous Manufacturing.
481111 | Scheduled Passenger Air Transportation.
481112 | Scheduled Freight Air Transportation.
481211 | Nonscheduled Chartered Passenger Air Transportation.
481212 | Nonscheduled Chartered Freight Air Transportation.
481219 | Other Nonscheduled Air Transportation.
483111 | Deep Sea Freight Transportation.
483112 | Deep Sea Passenger Transportation.
483113 | Coastal and Great Lakes Freight Transportation.
483114 | Coastal and Great Lakes Passenger Transportation.
483211 | Inland Water Freight Transportation.
483212 | Inland Water Passenger Transportation.
484110 | General Freight Trucking, Local.
484121 | General Freight Trucking, Long-Distance, Truckload.
484122 | General Freight Trucking, Long-Distance, Less Than Truckload.
484210 | Used Household and Office Goods Moving.
484220 | Specialized Freight (except Used Goods) Trucking, Local.
484230 | Specialized Freight (except Used Goods) Trucking, Long-Distance.
485111 | Mixed Mode Transit Systems.
485112 | Commuter Rail Systems.
485113 | Bus and Other Motor Vehicle Transit Systems.
485119 | Other Urban Transit Systems.
485210 | Interurban and Rural Bus Transportation.
485310 | Taxi and Ridesharing Services.
485320 | Limousine Service.
485991 | Special Needs Transportation.
485999 | All Other Transit and Ground Passenger Transportation.
488111 | Air Traffic Control.
488119 | Other Airport Operations.
488190 | Other Support Activities for Air Transportation.
488310 | Port and Harbor Operations.
488320 | Marine Cargo Handling.
488330 | Navigational Services to Shipping.
488390 | Other Support Activities for Water Transportation.
488410 | Motor Vehicle Towing.
488490 | Other Support Activities for Road Transportation.
488510 | Freight Transportation Arrangement.
488991 | Packing and Crating.
488999 | All Other Support Activities for Transportation.
491110 | Postal Service.
492110 | Couriers and Express Delivery Services.
492210 | Local Messengers and Local Delivery.
493110 | General Warehousing and Storage.
493120 | Refrigerated Warehousing and Storage.
493130 | Farm Product Warehousing and Storage.
493190 | Other Warehousing and Storage.
512230 | Music Publishers.
512240 | Sound Recording Studios.
512250 | Record Production and Distribution.
512290 | Other Sound Recording Industries.
513110 | Newspaper Publishers.
513120 | Periodical Publishers.
513130 | Book Publishers.
513140 | Directory and Mailing List Publishers.
513191 | Greeting Card Publishers.
513199 | All Other Publishers.
513210 | Software Publishers.
516110 | Radio Broadcasting Stations.
516120 | Television Broadcasting Stations.
516210 | Media Streaming Distribution Services, Social Networks, and Other Media Networks and Content Providers.
517111 | Wired Telecommunications Carriers.
517112 | Wireless Telecommunications Carriers (except Satellite).
517121 | Telecommunications Resellers.
517122 | Agents for Wireless Telecommunications Services.
517410 | Satellite Telecommunications.
517810 | All Other Telecommunications.
518210 | Computing Infrastructure Providers, Data Processing, Web Hosting, and Related Services.
519210 | Libraries and Archives.
519290 | Web Search Portals and All Other Information Services.
522310 | Mortgage and Nonmortgage Loan Brokers.
522320 | Financial Transactions Processing, Reserve, and Clearinghouse Activities.
522390 | Other Activities Related to Credit Intermediation.
523150 | Investment Banking and Securities Intermediation.
523160 | Commodity Contracts Intermediation.
523910 | Miscellaneous Intermediation.
523940 | Portfolio Management and Investment Advice.
523991 | Trust, Fiduciary, and Custody Activities.
523999 | Miscellaneous Financial Investment Activities.
524113 | Direct Life Insurance Carriers.
524114 | Direct Health and Medical Insurance Carriers.
524126 | Direct Property and Casualty Insurance Carriers.
524127 | Direct Title Insurance Carriers.
524128 | Other Direct Insurance (except Life, Health, and Medical) Carriers.
524130 | Reinsurance Carriers.
524210 | Insurance Agencies and Brokerages.
524291 | Claims Adjusting.
524292 | Pharmacy Benefit Management and Other Third Party Administration of Insurance and Pension Funds.
524298 | All Other Insurance Related Activities.
525110 | Pension Funds.
525120 | Health and Welfare Funds.
525190 | Other Insurance Funds.
531210 | Offices of Real Estate Agents and Brokers.
531311 | Residential Property Managers.
531312 | Nonresidential Property Managers.
531320 | Offices of Real Estate Appraisers.
531390 | Other Activities Related to Real Estate.
532111 | Passenger Car Rental.
532112 | Passenger Car Leasing.
532120 | Truck, Utility Trailer, and RV (Recreational Vehicle) Rental and Leasing.
532210 | Consumer Electronics and Appliances Rental.
532281 | Formal Wear and Costume Rental.
532282 | Video Tape and Disc Rental.
532283 | Home Health Equipment Rental.
532284 | Recreational Goods Rental.
532289 | All Other Consumer Goods Rental.
532310 | General Rental Centers.
532411 | Commercial Air, Rail, and Water Transportation Equipment Rental and Leasing.
532412 | Construction, Mining, and Forestry Machinery and Equipment Rental and Leasing.
532420 | Office Machinery and Equipment Rental and Leasing.
532490 | Other Commercial and Industrial Machinery and Equipment Rental and Leasing.
541110 | Offices of Lawyers.
541120 | Offices of Notaries.
541191 | Title Abstract and Settlement Offices.
541199 | All Other Legal Services.
541211 | Offices of Certified Public Accountants.
541213 | Tax Preparation Services.
541214 | Payroll Services.
541219 | Other Accounting Services.
541310 | Architectural Services.
541320 | Landscape Architectural Services.
541330 | Engineering Services.
541340 | Drafting Services.
541350 | Building Inspection Services.
541360 | Geophysical Surveying and Mapping Services.
541370 | Surveying and Mapping (except Geophysical) Services.
541380 | Testing Laboratories and Services.
541511 | Custom Computer Programming Services.
541512 | Computer Systems Design Services.
541513 | Computer Facilities Management Services.
541519 | Other Computer Related Services.
541611 | Administrative Management and General Management Consulting Services.
541612 | Human Resources Consulting Services.
541613 | Marketing Consulting Services.
541614 | Process, Physical Distribution, and Logistics Consulting Services.
541618 | Other Management Consulting Services.
541620 | Environmental Consulting Services.
541690 | Other Scientific and Technical Consulting Services.
541713 | Research and Development in Nanotechnology.
541714 | Research and Development in Biotechnology (except Nanobiotechnology).
541715 | Research and Development in the Physical, Engineering, and Life Sciences (except Nanotechnology and Biotechnology).
541720 | Research and Development in the Social Sciences and Humanities.
541810 | Advertising Agencies.
541820 | Public Relations Agencies.
541830 | Media Buying Agencies.
541840 | Media Representatives.
541850 | Indoor and Outdoor Display Advertising.
541860 | Direct Mail Advertising.
541870 | Advertising Material Distribution Services.
541890 | Other Services Related to Advertising.
541910 | Marketing Research and Public Opinion Polling.
541921 | Photography Studios, Portrait.
541922 | Commercial Photography.
541930 | Translation and Interpretation Services.
541940 | Veterinary Services.
541990 | All Other Professional, Scientific, and Technical Services.
561110 | Office Administrative Services.
561210 | Facilities Support Services.
561311 | Employment Placement Agencies.
561312 | Executive Search Services.
561320 | Temporary Help Services.
561330 | Professional Employer Organizations.
561410 | Document Preparation Services.
561421 | Telephone Answering Services.
561422 | Telemarketing Bureaus and Other Contact Centers.
561431 | Private Mail Centers.
561439 | Other Business Service Centers (including Copy Shops).
561440 | Collection Agencies.
561450 | Credit Bureaus.
561491 | Repossession Services.
561492 | Court Reporting and Stenotype Services.
561499 | All Other Business Support Services.
561510 | Travel Agencies.
561520 | Tour Operators.
561591 | Convention and Visitors Bureaus.
561599 | All Other Travel Arrangement and Reservation Services.
561611 | Investigation and Personal Background Check Services.
561612 | Security Guards and Patrol Services.
561613 | Armored Car Services.
561621 | Security Systems Services (except Locksmiths).
561622 | Locksmiths.
561910 | Packaging and Labeling Services.
561920 | Convention and Trade Show Organizers.
561990 | All Other Support Services.
562910 | Remediation Services.
562920 | Materials Recovery Facilities.
562991 | Septic Tank and Related Services.
562998 | All Other Miscellaneous Waste Management Services.
611110 | Elementary and Secondary Schools.
611210 | Junior Colleges.
611310 | Colleges, Universities, and Professional Schools.
611410 | Business and Secretarial Schools.
611420 | Computer Training.
611430 | Professional and Management Development Training.
611511 | Cosmetology and Barber Schools.
611512 | Flight Training.
611513 | Apprenticeship Training.
611519 | Other Technical and Trade Schools.
611710 | Educational Support Services.
621111 | Offices of Physicians (except Mental Health Specialists).
621112 | Offices of Physicians, Mental Health Specialists.
621410 | Family Planning Centers.
621420 | Outpatient Mental Health and Substance Abuse Centers.
621491 | HMO Medical Centers.
621492 | Kidney Dialysis Centers.
621493 | Freestanding Ambulatory Surgical and Emergency Centers.
621498 | All Other Outpatient Care Centers.
621511 | Medical Laboratories.
621512 | Diagnostic Imaging Centers.
621610 | Home Health Care Services.
621910 | Ambulance Services.
621991 | Blood and Organ Banks.
621999 | All Other Miscellaneous Ambulatory Health Care Services.
622110 | General Medical and Surgical Hospitals.
623110 | Nursing Care Facilities (Skilled Nursing Facilities).
623210 | Residential Intellectual and Developmental Disability Facilities.
623220 | Residential Mental Health and Substance Abuse Facilities.
623990 | Other Residential Care Facilities.
624110 | Child and Youth Services.
624120 | Services for the Elderly and Persons with Disabilities.
624190 | Other Individual and Family Services.
624210 | Community Food Services.
624221 | Temporary Shelters.
624229 | Other Community Housing Services.
624230 | Emergency and Other Relief Services.
624310 | Vocational Rehabilitation Services.
711211 | Sports Teams and Clubs.
711212 | Racetracks.
711219 | Other Spectator Sports.
711310 | Promoters of Performing Arts, Sports, and Similar Events with Facilities.
711320 | Promoters of Performing Arts, Sports, and Similar Events without Facilities.
711410 | Agents and Managers for Artists, Athletes, Entertainers, and Other Public Figures.
711510 | Independent Artists, Writers, and Performers.
713110 | Amusement and Theme Parks.
713120 | Amusement Arcades.
713910 | Golf Courses and Country Clubs.
713920 | Skiing Facilities.
713930 | Marinas.
713940 | Fitness and Recreational Sports Centers.
713950 | Bowling Centers.
713990 | All Other Amusement and Recreation Industries.
722310 | Food Service Contractors.
722320 | Caterers.
722330 | Mobile Food Services.
722511 | Full-Service Restaurants.
722513 | Limited-Service Restaurants.
722514 | Cafeterias, Grill Buffets, and Buffets.
722515 | Snack and Nonalcoholic Beverage Bars.
811210 | Electronic and Precision Equipment Repair and Maintenance.
811310 | Commercial and Industrial Machinery and Equipment (except Automotive and Electronic) Repair and Maintenance.
812210 | Funeral Homes and Funeral Services.
812220 | Cemeteries and Crematories.
812310 | Coin-Operated Laundries and Drycleaners.
812320 | Drycleaning and Laundry Services (except Coin-Operated).
812331 | Linen Supply.
812332 | Industrial Launderers.
812910 | Pet Care (except Veterinary) Services.
812921 | Photofinishing Laboratories (except One-Hour).
812922 | One-Hour Photofinishing.
812930 | Parking Lots and Garages.
812990 | All Other Personal Services.
813211 | Grantmaking Foundations.
813212 | Voluntary Health Organizations.
813219 | Other Grantmaking and Giving Services.
813311 | Human Rights Organizations.
813312 | Environment, Conservation and Wildlife Organizations.
813319 | Other Social Advocacy Organizations.
813410 | Civic and Social Organizations.
813910 | Business Associations.
813920 | Professional Organizations.
813930 | Labor Unions and Similar Labor Organizations.
813940 | Political Organizations.
813990 | Other Similar Organizations (except Business, Professional, Labor, and Political Organizations).

SBA will post the lists of 2022 NAICS codes set forth in this notice on the WOSB Program's website, www.sba.gov/wosb.

Beatrice Hidalgo,
Associate Administrator, Government Contracting and Business Development.

[FR Doc. 2022-25013 Filed 11-16-22; 8:45 am]

BILLING CODE 8026-09-P